DEPARTMENT OF COMMERCE

International Trade Administration

[C-489-502]

Certain Welded Carbon Steel Standard Pipe from Turkey: Final Results of Countervailing Duty Administrative Review

AGENCY: Import Administration, International Trade Administration, Department of Commerce.

SUMMARY: On April 1, 2010, the Department of Commerce (the Department) published in the Federal Register its preliminary results of administrative review of the countervailing duty (CVD) order on certain welded carbon steel standard pipe from Turkey for the January 1, 2008, through December 31, 2008, period of review (POR). See Certain Welded Carbon Steel Standard Pipe From Turkey: Preliminary Results of Countervailing Duty Administrative Review, 75 FR 16439 (April 1, 2010) (Preliminary Results). The Department preliminarily found that the following producers/exporters of subject merchandise covered by this review had de minimis net subsidy rates for the POR: (1) Borusan Group, Borusan Mannesmann Boru Sanayi ve Ticaret A.S. (BMB), and Borusan Istikbal Ticaret T.A.S. (Istikbal) (collectively, Borusan); and (2) Tosyali dis Ticaret A.S. (Tosyali) and Toscelik Profil ve Sac Endustrisi A.S. (Toscelik Profil), (collectively, Toscelik).¹ We did not receive any comments on our Preliminary Results, and we have made no revisions.

¹ The review of Yucel Boru Group, Cayirova Boru Sanayi ve Ticaret A.S., Yucelboru Ihracat Ithalat ve Pazarlama A.S., and Yucel Boru ve Profil Endustrisi A.S. (collectively, Yucel) was rescinded. See Welded Carbon Steel Standard Pipe and Tube from Turkey: Notice of Rescission of Countervailing Duty Administrative Review, In Part, 74 FR 47921(September 18, 2009).

This administrative review is now completed in accordance with section 751(a) of the Tariff Act of 1930, as amended (the Act). The final net subsidy rate for Borusan and Toscelik is listed below in the “Final Results of Review” section.

EFFECTIVE DATE: July 29, 2010.

FOR FURTHER INFORMATION CONTACT: Kristen Johnson, AD/CVD Operations, Office 3, Import Administration, International Trade Administration, U.S. Department of Commerce, 14th Street and Constitution Avenue, NW, Washington, DC 20230; telephone: (202) 482-4793.

SUPPLEMENTARY INFORMATION:

Background

On March 7, 1986, the Department published in the Federal Register the CVD order on certain welded carbon steel pipe and tube products from Turkey. See Countervailing Duty Order: Certain Welded Carbon Steel Pipe and Tube Products From Turkey, 51 FR 7984 (March 7, 1986). On April 1, 2010, the Department published in the Federal Register the preliminary results for this review. See Preliminary Results, 75 FR 16439. On June 23 and 24, 2010, the Department verified the questionnaire responses submitted by Borusan. See Memorandum to Melissa Skinner, Director, AD/CVD Operations, Office 3, from the Team, regarding “Verification of the Questionnaire Responses Submitted by the Borusan Group,” (July 7, 2010).² The verification report was released to interested parties on July 8, 2010. See Memorandum to the File from Kristen Johnson, Trade Analyst, AD/CVD Operations, Office 3, regarding “Case and Rebuttal Briefs Schedule,” (July 9, 2010). In the Preliminary Results, we invited interested parties to submit case briefs commenting on the preliminary results or to request a hearing. We did not hold a hearing in this review, as one was not requested, and did not receive any case briefs. We, therefore, have made no revisions to the preliminary results.

² A public version of this report is available on the public file in room 1117 of the main Department of Commerce building.

Scope of Order

The products covered by this order are certain welded carbon steel pipe and tube with an outside diameter of 0.375 inch or more, but not over 16 inches, of any wall thickness (pipe and tube) from Turkey. These products are currently provided for under the Harmonized Tariff Schedule of the United States (HTSUS) as item numbers 7306.30.10, 7306.30.50, and 7306.90.10. Although the HTSUS subheadings are provided for convenience and customs purposes, the written description of the merchandise is dispositive.

Final Results of Review

As noted above, the Department received no comments concerning the preliminary results. Therefore, consistent with the Preliminary Results, we continue to find that Borusan and Toscelik had de minimis net countervailable subsidy rates for the POR. In accordance with section 751(a)(1)(A) of the Act, we calculated a total net countervailable subsidy rate of 0.12 percent ad valorem for Borusan and 0.09 percent for Toscelik. Pursuant to 19 CFR 351.106(c), these calculated rates are de minimis.

As there have been no changes to or comments on the preliminary results, we are not attaching a decision memorandum to this Federal Register notice. For further details of the programs included in this proceeding, see Preliminary Results.

Assessment Rates/Cash Deposits

The Department intends to issue assessment instructions to U.S. Customs and Border Protection (CBP) 15 days after the date of publication of these final results, to liquidate shipments of subject merchandise by Borusan and Toscelik entered, or withdrawn from warehouse, for consumption on or after January 1, 2008, through December 31, 2008, without regard to countervailing duties because a de minimis subsidy rate was calculated for each company. We will also instruct CBP not to collect cash deposits of estimated countervailing duties on shipments of the subject merchandise by Borusan and Toscelik entered, or withdrawn from warehouse, for consumption on or after the date of publication of the final results of this review.

For all non-reviewed companies, we will instruct CBP to continue to collect cash deposits at the most recent company-specific or country-wide rate applicable to the company. Accordingly, the cash deposit rates that will be applied to companies covered by this order, but not examined in this review, are those established in the most recently completed administrative proceeding for each company. These rates shall apply to all non-reviewed companies until a review of a company assigned these rates is requested.

Return or Destruction of Proprietary Information

This notice also serves as a reminder to parties subject to administrative protective order (APO) of their responsibility concerning the disposition of proprietary information disclosed under APO in accordance with 19 CFR 351.305(a)(3). Timely written notification of the return/destruction of APO materials or conversion to judicial protective order is hereby requested. Failure to comply with the regulations and the terms of an APO is a sanctionable violation.

We are issuing and publishing these results in accordance with sections 751(a)(1) and 777(i)(1) of the Act.

Dated: July 23, 2010.
Ronald K. Lorentzen,
Deputy Assistant Secretary for Import Administration.

[FR Doc. 2010-18685 Filed 7-28-10; 8:45 am]

BILLING CODE 3510-DS-S